DEPARTMENT OF HOMELAND SECURITY

Coast Guard

33 CFR Part 117

[Docket No. USCG-2017-0983]

Drawbridge Operation Regulation; Hutchinson River, Mount Vernon, NY

AGENCY: Coast Guard, DHS.

ACTION: Notice of deviation from drawbridge regulation.

SUMMARY: The Coast Guard has issued a temporary deviation from the operating schedule that governs the South Fulton Avenue Bridge across the Hutchinson River, mile 2.9, at Mount Vernon, New York. This deviation is necessary to facilitate bridge rehabilitation allowing the owner to temporarily close the draw for ten days.

DATES: This deviation is effective from 12:01 a.m. on November 13, 2017 until 11:59 p.m. on November 22, 2017.

ADDRESSES: The docket for this deviation, USCG-2017-0983, is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, the Westchester County Department of Public Works and Transportation, requested a temporary deviation in order to facilitate bridge rehabilitation including placement of the concrete deck for the counterweight spans, installation of concrete on the movable spans, installation of sidewalk deck panels, control/mechanical equipment wiring and testing, and bridge testing.

The South Fulton Avenue Bridge across the Hutchinson River, mile 2.9, at Mount Vernon, New York is a bascule bridge with a vertical clearance of 6 feet at mean high water and 13 feet at mean low water in the closed position. The existing drawbridge operating regulations are listed at 33 CFR 117.793(c).

This temporary deviation will allow the South Fulton Avenue Bridge to remain in the closed position from 12:01 a.m. on November 13, 2017 to 11:59 p.m. on November 22, 2017. The waterway is transited by recreational vessels and commercial vessels. There is only one facility upstream of this bridge. Coordination with waterway user has indicated no objection to the proposed closure of the draw. Vessels that can pass under the bridge without an opening may do so at all times. The bridge will not be able to open for emergencies. There is no alternate route for vessels to pass.

The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: November 3, 2017.
Christopher J. Bisignano,
Supervisory Bridge Management Specialist, First Coast Guard District.

[FR Doc. 2017-24378 Filed 11-8-17; 8:45 am]

BILLING CODE 9110-04-P